DEPARTMENT OF COMMERCE

National Oceanic and Atmospheric Administration

RIN 0648-XE177

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold a work session that is open to the public.

DATES: The GMT meeting will be held Monday, October 5, 2015, at 1 p.m. until business for the day is completed. The GMT meeting will reconvene Tuesday, October 6 through Friday, October 9, 2015, from 8:30 a.m. until business for each day has been completed.

ADDRESSES: The meeting will be held at the Pacific Council Office, Large Conference Room, 7700 NE Ambassador Place, Suite 101, Portland, OR 97220-1384, telephone: (503) 820-2280.

Council address: Pacific Council, 7700 NE Ambassador Place, Suite 101, Portland, OR 97220-1384.

FOR FURTHER INFORMATION CONTACT: Ms. Kelly Ames, Pacific Council; telephone: (503) 820-2426.

SUPPLEMENTARY INFORMATION: The primary purpose of the GMT meeting will be to develop recommendations for consideration by the Pacific Council at its November 13-19, 2015 meeting in Garden Grove, CA. Specific agenda topics include the development of the 2017-18 harvest specifications and management measures including stock assessments and rebuilding analyses. The GMT may also address other groundfish agenda items scheduled for the November Council meeting. No management actions will be decided by the GMT. Public comment will be accommodated if time allows, at the discretion of the GMT Chair.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 5 days prior to the meeting date.

Dated: September 11, 2015.
Tracey L. Thompson,
Acting Deputy Director, Office of Sustainable Fisheries, National Marine Fisheries Service.

[FR Doc. 2015-23261 Filed 9-15-15; 8:45 am]

BILLING CODE 3510-22-P